EXPORT-IMPORT BANK OF THE UNITED STATES

Economic Impact Policy of the Export-Import Bank of the United States

This notice is to inform the public that the Export-Import Bank of the United States has received an application to finance $35 million of equipment on behalf of U.S. exporters to an automotive crankshaft finisher in Mexico. The U.S. exports will enable the Mexican buyer to increase finished automotive crankshaft output by approximately 700,000 crankshafts per year. Some of this new production will be exported to the United States.

Interested parties may submit comments on this transaction by e-mail to economic.impact@exim.gov or by mail to 811 Vermont Avenue, NW, Room 1238, Washington, DC 20571, within 14 days of the date this notice appears in the Federal Register.

Helen S. Walsh,
Director, Policy Oversight and Review.

[FR Doc. 02-4976 Filed 3-1-02; 8:45 am]

BILLING CODE 6690-01-M